GENERAL SERVICES ADMINISTRATION

[PBS-N02]

Notice of Availability of the Draft Environmental Assessment and Wetland Involvement for the Transformation of Facilities and Infrastructure for the Non-Nuclear Production Activities Conducted at the National Nuclear Security Administration's Kansas City Plant at Kansas City, MI

AGENCY: General Services Administration and National Nuclear Security Administration, Department of Energy.

ACTION: Notice of Availability.

SUMMARY: This notice announces the availability, and opportunity for public review and comment, of a draft environmental assessment (EA), DOE/EA-1592, that examines the impacts of a proposal by the General Services Administration (GSA), as the lead agency, and the National Nuclear Security Administration (NNSA), as a cooperating agency, to procure the construction of a new multistructure facility to house NNSA's non-nuclear component procurement and manufacturing operations.

DATES: The review period for the Draft EA and other NEPA documents ends Monday, January 14th. Comments postmarked after this date will be considered to the extent practicable.

ADDRESSES: Further information, including an electronic copy of the draft EA and other supporting NEPA documents, may be found on the following Web site, http://www.gsa.gov/kansascityplant.

Comments, or requests for copies of the draft EA, should be sent to Carlos Salazar, General Services Administration, 1500 East Bannister Road, Room 2191 (6PTA), Kansas City, MO 64131. Comments may also be e-mailed to NNSA-KC@gsa.gov.

Requests for copies of the draft EA may also be made by calling 816-823-2305 or via e-mail to NNSA-KC@gsa.gov.

SUPPLEMENTARY INFORMATION: The proposed action is for GSA to procure the construction of a new multi-structure facility to house NNSA's non-nuclear component procurement and manufacturing operations. GSA would issue a Solicitation for Offers to the real estate development community. The successful developer would purchase the property, and would partner with GSA and NNSA to design and construct a campus that meets NNSA's needs. GSA would lease the campus on NNSA's behalf, and NNSA would relocate its non-nuclear operations from the existing KCP at the Bannister Federal Complex in Kansas City, Missouri to the new facility and conduct future operations in the new facilities. The proposed new NNSA KCP would be a smaller production facility designed for flexibility to enable rapid reconfiguration to meet changing production requirements, reducing annual operating costs while improving the responsiveness, facility utilization and reliability of the supply of non-nuclear components to NNSA. In addition to these business improvements, the new facility would enable a reduction in the environmental footprint associated with KCP operations including reduced air and water emissions and waste generation.

The EA report examines and evaluates the environmental conditions on a portion of the Bannister Federal Complex located on Bannister Road in Kansas City, Missouri and for a site currently developed for agricultural usage on the northwest corner of Botts Road and Highway 150 in Kansas City, Missouri. The EA evaluates the baseline environmental conditions, environmental consequences, and cumulative impacts of several alternatives.

The relocation would involve moving approximately two-thirds of the existing capital and process equipment to the new facility. The proposed facility would cover approximately 1 to 1.55 million rentable square feet and provide up to 2,900 surface parking spaces. The new campus would be constructed to pursue a Leadership in Energy and Environmental Design (LEED), version 2.2, Gold certification, as defined by the United States Green Building Council. In addition, the campus would meet all executive orders on energy conservation.

The existing KCP is collocated on the Bannister Federal Complex with GSA and shares both individual buildings and utilities. At this time it is anticipated that GSA would also relocate to new office space and vacate the Bannister Federal Complex on approximately the same time schedule as the Kansas City Plant. It is also anticipated that disposal of the DOE-owned portion of the complex would be coordinated with the redeployment of the GSA-owned parcels, and may be managed as a single real property disposition action. Therefore, disposition and cleanup activities for the existing NNSA facility at the KCP are not part of the current proposed action and would be addressed in appropriate future environmental analyses.

GSA and NNSA are also providing notice of wetland involvement for the proposed action. Based upon a preliminary jurisdictional waters determination, less than 1.5 acres of non-jurisdictional wetlands and potential jurisdictional tributaries and wetlands exist onsite. Mitigation of impacts to non-jurisdictional wetlands would take place in accordance with Executive Order 11990, and to jurisdictional waters in accordance with Section 404 Permitting, which requires avoidance of wetlands impacts, minimization of potential impacts on wetlands, and compensation for any remaining unavoidable impacts. A wetland assessment will be completed in accordance with the requirements of 10 CFR Part 1022 once the proposed site layout is known.

This EA is being prepared pursuant to the National Environmental Policy Act of 1969 (NEPA), and regulations implementing NEPA issued by the Council on Environmental Quality (40 CFR Parts 1500-1508), GSA (ADM 1095.1F), and to the extent not inconsistent with ADM 1095.1F, DOE (10 CFR Part 1021). GSA and NNSA will consider comments received (see DATES and ADDRESSES, above) in finalizing the EA. Based on the final EA, GSA and NNSA will determine whether to prepare an environmental impact statement or issue a finding of no significant impact if appropriate for the proposed action.

Carlos Salazar,
Regional NEPA Coordinator, GSA Public Buildings Service, Heartland Region.

[FR Doc. E7-23843 Filed 12-7-07; 8:45 a.m.]

BILLING CODE 6820-CG-P